DEPARTMENT OF HOUSING AND URBAN DEVELOPMENT

[Docket No. FR-5346-N-01]

Multifamily Mortgage Insurance Premiums (MIPs) and Credit Subsidy Obligations for Fiscal Year (FY) 2010

AGENCY: Office of the Assistant Secretary for Housing—Federal Housing Commissioner, HUD.

ACTION: Notice.

SUMMARY: This notice announces the mortgage insurance premiums (MIPs) for Federal Housing Administration (FHA) multifamily mortgage insurance programs, health care facilities; and hospital insurance programs that have commitments to be issued or reissued in Fiscal Year (FY) 2010. The FY2010 MIPs are the same as in FY2009. In addition to announcing MIPs for FY2010, this notice also announces:

(A) The credit subsidy obligations for FY2010 are the same as those for firm commitments issued or reissued in FY2009. There are three positive credit subsidy programs: (1) Section 221(d)(3) New Construction/Substantial Rehabilitation for Nonprofit/Cooperatives; (2) Section 241(a) Supplemental Loans for apartments only; and (3) Section 223(d) Operating Loss Loans.

(B) The addition of an MIP for FHA's hospital insurance program, section 242/223f refinancing of an existing hospital.

DATES: Effective Date: October 1, 2009.

FOR FURTHER INFORMATION CONTACT: Eric Stevenson, Deputy Director, Office of Multifamily Development, Department of Housing and Urban Development, 451 Seventh Street, SW., Washington, DC 20410-8000; telephone: 202-708-1142 (this is not a toll-free number). Hearing- or speech-impaired individuals may access these numbers through TTY by calling the Federal Information Relay Service at 800-877-8339 (this is a toll-free number).

SUPPLEMENTARY INFORMATION:

I. Background

HUD's multifamily housing mortgage insurance regulation at 24 CFR 207.254 provides as follows:

Notice of future premium changes will be published in the Federal Register. The Department will propose MIP changes for multifamily mortgage insurance programs and provide a 30-day public comment period for the purpose of accepting comments on whether the proposed changes are appropriate.

Under this regulation, HUD is required to publish a notice for public comment only when there are premium “changes.” Since HUD is not seeking to implement any premium changes for FY2010 for the multifamily mortgage insurance programs, health care facilities; and hospital insurance programs listed in this notice, a notice and public comment is not required. The MIP for the new provision for refinancing a hospital, set at 50 basis points, is the same as HUD's MIPs for other hospital financing programs and thus does not represent a change. HUD is merely providing this notice to ensure that there is clarity on the appropriated MIPs charged for FY2010, and is not seeking public comments.

II. Low-Income Housing Tax Credits

MIP rates for many multifamily FHA mortgage programs depend on whether or not the sponsor is combining low-income housing tax credits with the FHA-insured loan. Under the Department of Housing and Urban Development Reform Act of 1989, Public Law 101-235 (approved December 15, 1989), and HUD's implementing instructions, a sponsor is required to submit a certification regarding governmental assistance, including any low-income housing tax credits, with mortgage insurance applications.

III. MIPs for Multifamily Programs for FY2010

This notice announces the MIPs, listed in this notice, which will be in effect during FY2010 for the multifamily housing programs, health care facilities; and hospital insurance programs. FHA's hospital mortgage insurance program, which is overseen by FHA's Office of Insured Health Care Facilities, is authorized under section 242 of the National Housing Act, 12 U.S.C. 1715z-7. Section 241(a) Supplemental Loans for hospitals and Section 223(a)(7) for Refinancing of existing hospitals under FHA-insured for the Section 242 Hospital Program are separately listed in the chart that follows. The effective date for these mortgage insurance premiums is October 1, 2009.

Credit Subsidy

This notice also announces that a credit subsidy obligation continues to be required for the three sections of the National Housing Act listed below. However, if the mortgagor's equity is produced from low-income housing tax credits (LIHTC) for Sections 221(d)(3) or 241(a), a credit subsidy obligation will not be required. For the loans requiring a credit subsidy obligation, the program office inserts a special clause into the firm commitment or an invitation pertaining to a Site Appraisal and Market Analysis (SAMA)/Feasibility/Multifamily Accelerated Processing (MAP) letter. The clause states that the firm commitment is contingent upon availability of funds.

• Section 221(d)(3) New Construction/Substantial Rehabilitation for Nonprofit/Cooperatives.

• Section 223(d) Operating Loss Loans for both apartments and health care facilities.

• Section 241(a) Supplemental Loans for additions or improvements for apartments only.

The mortgage insurance premiums to be in effect for FHA firm commitments issued or reissued in FY2010 are shown in the table below.

Fiscal Year 2010 MIP Rates—Multifamily, Health Care Facilities and Hospital Insurance Programs
| Basis points
FHA Apartments:
207 Multifamily Housing New Construction/Sub Rehab without LIHTC | 50
207 Multifamily Housing New Construction/Sub Rehab with LIHTC | 45
207 Manufactured Home Parks without LIHTC | 50
207 Manufactured Home Parks with LIHTC | 45
221(d)(3) New Construction/Substantial Rehabilitation (NC/SR) for Nonprofit/Cooperative mortgagor without LIHTC | 80
221(d)(3) Limited dividend with LIHTC | 45
221(d)(4) NC/SR without LIHTC | 45
221(d)(4) NC/SR with LIHTC | 45
220 Urban Renewal Housing without LIHTC | 50
220 Urban Renewal Housing with LIHTC | 45
213 Cooperative | 50
207/223(f) Refinance or Purchase for Apartments without LIHTC | *45
207/223(f) Refinance or Purchase for Apartments with LIHTC | *45
223(a)(7) Refinance of Apartments without LIHTC | 45
223(a)(7) Refinance of Apartments with LIHTC | 45
223d Operating Loss Loan for Apartments | 80
241(a) Supplemental Loans for Apartments/coop without LIHTC | 80
241(a) Supplemental Loans for Apartments/coop with LIHTC | 45
FHA Health Care Facilities (Nursing Homes, ALF & B&C):
232 NC/SR Health Care Facilities without LIHTC | 57
232 NC/SR—Assisted Living Facilities with LIHTC | 45
231 Elderly Housing without LIHTC | 50
231 Elderly Housing with LIHTC | 45
232/223(f) Refinance for Health Care Facilities without LIHTC | *50
232/223(f) Refinance for Health Care Facilities with LIHTC | *45
223(a)(7) Refinance of Health Care Facilities without LIHTC | 50
223(a)(7) Refinance of Health Care Facilities with LIHTC | 45
223d Operating Loss Loan for Health Care Facilities | 80
241(a) Supplemental Loans for Health Care Facilities without LIHTC | 57
241(a) Supplemental Loans for Health Care Facilities with LIHTC | 45
FHA Hospitals:
242 Hospitals | 50
223(f) Refinance of Existing FHA-insured Hospital | 50
223(a)(7) Refinance of Existing FHA-insured Hospital | 50
241(a) Supplemental Loans for Hospitals | 50
* The First Year MIP for the section 207/223(f) loans for apartments is 100 basis (one percent) points for the first year, as specified in sections 24 CFR 207.232b(a). The first year MIP for a 232/223(f) health care facility remains at 100 basis points (one percent).

Dated: September 10, 2009.
David H. Stevens,
Assistant Secretary for Housing—Federal Housing Commissioner.

[FR Doc. E9-22342 Filed 9-16-09; 8:45 am]

BILLING CODE 4210-67-P